DEPARTMENT OF TRANSPORTATION

Surface Transportation Board

[Docket No. FD 35582]

Rail-Term Corp.—Petition for Declaratory Order

AGENCY: Surface Transportation Board.

ACTION: Request for public comments.

SUMMARY: On December 13, 2013, Rail-Term Corp. (Rail-Term) filed a petition for reconsideration of the Board's November 19, 2013 decision which found Rail-Term to be a “rail carrier,” as defined in the Interstate Commerce Act at 49 U.S.C. 10102(5), and, therefore, subject to the Board's jurisdiction. In response to filings by the Association of American Railroads (AAR), the American Short Line and Regional Railroad Association (ASLRRA), and the National Railroad Construction and Maintenance Association, Inc. (NRC), the Board is allowing the public to file comments as amicus curiae and allowing AAR, ASLRRA, and NRC to participate as amicus curiae.

DATES: Comments in support of reconsideration are due by March 10, 2014. Replies in opposition to reconsideration are due by March 31, 2014.

ADDRESSES: Comments and replies may be submitted either via the Board's e-filing format or in the traditional paper format. Any person using e-filing should attach a document and otherwise comply with the instructions at the E-FILING link on the Board's Web site, at http://www.stb.dot.gov. Any person submitting a filing in the traditional paper format should send an original and 10 copies, referring to Docket No. FD 35582, to: Surface Transportation Board, 395 E Street SW., Washington, DC 20423-0001.

FOR FURTHER INFORMATION CONTACT: Jonathon Binet, (202) 245-0368. Assistance for the hearing impaired is available through the Federal Information Relay Service (FIRS) at (800) 877-8339.

SUPPLEMENTARY INFORMATION: Additional information is contained in the Board's decision. Board decisions and notices are available on our Web site at www.stb.dot.gov.

Decided: February 12, 2014.
By the Board, Rachel D. Campbell, Director, Office of Proceedings.
Derrick A. Gardner,
Clearance Clerk.

[FR Doc. 2014-03417 Filed 2-14-14; 8:45 am]

BILLING CODE 4915-01-P